DEPARTMENT OF ENERGY

Federal Energy Regulatory Commission

[Project No. 13630-000]

Lewis County Development Corporation; Notice of Preliminary Permit Application Accepted for Filing and Soliciting Comments, Motions To Intervene, and Competing Applications

March 3, 2010.

On November 16, 2009, Lewis County Development Corporation (Lewis County Corp) filed an application for a preliminary permit, pursuant to section 4(f) of the Federal Power Act, proposing to study the feasibility of the Croghan Dam Hydroelectric Project No. 13630, to be located at the existing Croghan Dam, on the on the Beaver River, in Lewis County, New York.

The proposed project would consist of: (1) An existing concrete gravity dam structure consisting of an 11.5-foot-high by 120-foot-long section, and a 9.5-foot-high by 103-foot-long section; (2) an existing approximately 121-acre impoundment with a normal water surface elevation of 817.7 feet mean sea level; (3) a new 75-foot-long by 35-foot-wide powerhouse; (4) two new turbine generator units for a total installed capacity of 450 kilowatts; (5) a new approximately 360-foot-long, 13.2-kilovolt transmission line; and (6) appurtenant facilities. The proposed project would operate in run-of-river mode and generate an estimated average annual generation of 2,773 megawatt-hours.

Lewis County Corp: Larry Dolhof, Lewis County Development Corporation, P.O. Box 704, Lyons Falls, NY 13368, (315) 348-4066.

FERC Contact: Michael Watts, (202) 502-6123.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13630) in the docket number field to access the document. For assistance, call toll-free 1-866-208-3372.

Kimberly D. Bose,
Secretary.

[FR Doc. 2010-5042 Filed 3-9-10; 8:45 am]

BILLING CODE 6717-01-P